DEPARTMENT OF AGRICULTURE

Forest Service

Klamath National Forest; California; McCollins Late Successional Reserve Habitat Restoration Project

AGENCY: Forest Service, USDA.

ACTION: Notice of intent to prepare an environmental impact statement.

SUMMARY: The Klamath National Forest will prepare an environmental impact statement (EIS) to document and publicly disclose the environmental effects of treatments proposed to: Promote the continued development and retention of late successional old growth conditions; promote resilience of early- and mid-seral vegetation to large scale disturbance events such as wildfire or insects and disease; restore and maintain pine/oak forest type, oak woodlands, and wildlife habitat; and, reduce wildfire threat and potential fire intensity within the Wildland Urban Interface, especially surrounding private residences and structures. Treatments are proposed on about 2,700 acres and consist of commercial and non-commercial thinning, and, piling and burning of activity generated fuels. The project area is located east of Horse Creek, in Siskiyou County, California. Legal location: Township 46 North Range 9 West Sections 9, 10, 15-22, 27-33; and Township 46 North Range 10 West Sections 13, 21-28, and 32-36; Mount Diablo Meridian.

DATES: Comments concerning the scope of the analysis must be received by March 20, 2014. The draft environmental impact statement is expected December 2014 and the final environmental impact statement is expected June 2015.

ADDRESSES: Send written comments to Patricia A. Grantham, ATTN: Kim Crider, Project Leader, Happy Camp/Oak Knoll Ranger District, 63822 Highway 96, Klamath National Forest, Happy Camp, California 96039. Submit electronic comments at the Klamath National Forest's project Web page: http://www.fs.fed.us/nepa/nepa_project_exp.php?project=38559 by selecting the “Comment on Project” link in the “Get Connected” group at the right hand side of the project Web page. Put the project name in the subject line; attachments may be in the following formats: plain text (.txt), rich text format (.rtf), Word (.doc, .docx), or portable document format (.pdf). Send comments via facsimile to 530-493-1796.

FOR FURTHER INFORMATION CONTACT: Kim Crider, Project Leader, phone: 530-493-1724, email: kcrider@fs.fed.us. Individuals who use telecommunication devices for the deaf (TDD) may call the Federal Information Relay Service (FIRS) at 1-800-877-8339 between 8 a.m. and 8 p.m., Eastern Time, Monday through Friday. Proposal information is also available on the Klamath National Forest's project Web page at: http://www.fs.fed.us/nepa/nepa_project_exp.php?project=38559.

SUPPLEMENTARY INFORMATION:

Purpose and Need for Action

A Forest Service interdisciplinary team composed of specialists from a wide array of disciplines in conjunction with interested parties, considered the need for change and potential actions in the project area. The collaboration efforts included a public meeting and field trip. The IDT identified the following purpose and need for the project by comparing the existing conditions in the project area with the desired conditions described in the Klamath National Forest Land and Resource Management Plan and Late Successional Reserve Assessments: (1) Promote the continued development and retention of Late Successional Old Growth conditions; (2) Promote resilience of early- and mid-seral vegetation to large-scale disturbance events such as wildfire or insects and disease; (3) Restore and maintain pine/oak forest type, oak woodlands, and wildlife habitat; and (4) Reduce wildfire threat and potential fire intensity within the WUI, especially surrounding private residences and structures.

Proposed Action

The Klamath National Forest proposes actions to move the project area from the existing condition to the desired condition. Project design features and best management practices are incorporated into the proposed action. Acres by treatment type are described below and do not account for the overlap in treatment types. Treatment acreages are approximate at this point and may be adjusted and refined following the opportunity to provide scoping comments.

No roads will be added to, or removed from, the National Forest Transportation System as part of this project. To facilitate commercial treatments and reduce log skidding distances and associated impacts to soils and other resources, the proposed action includes temporary access along sixteen segments of existing roadbeds totaling about 1.34 miles and 0.36 miles of new temporary roadbed construction within the project area. Both existing and new temporary roadbeds will be closed, and where needed, hydrologically stabilized following project implementation.

About 137 landings will be needed to treat commercial units. Of these, 125 are existing landings and about twelve new landings will be constructed. About102 landings will be roadside continuous landings averaging one-tenth of an acre in size. Thirty-five landings will be needed for ground based units; landings will average from one-third to one-half acre in size.

Commercial Thinning: Commercial thinning treatments will use tractor, mechanized and cable logging systems to treat about 590 acres. Treatment prescriptions will vary by unit, and will be guided by topographic location, amount of disease present, and desired regeneration species. Treatment of trees larger than 20 inches diameter at breast height (dbh) will be considered as needed to meet the project objectives. Commercial utilization of wood fiber will be a by-product of the need for treatment in Late Successional Reserves and Riparian Reserves. Where possible, commercial thinning will involve whole tree yarding or yarding with tops attached. This will limit fuel accumulation in harvest units by allowing for limbs and tops to be piled and burned at landings. Other post-harvest fuel treatment methods will be considered as deemed necessary by a fuels specialist and may include: Grapple piling and burning, hand piling and burning, lop and scatter, or no treatment.

Mastication: Mastication will be used on about 164 acres to reduce fuel bed depth, raise crown base height, increase fuel to ground contact to promote decomposition and generate more fine materials.

Non-commercial Thinning: Non-commercial thinning on about 1,269 acres, will involve cutting trees less than nine inches dbh, piling, and burning using hand methods. This will reduce ladder fuels and surface fuels, while promoting tree growth rates.

Non-commercial Thinning Adjacent to Private Property: Non-commercial thinning on about 656 acres of National Forest System lands within 500 feet of private property will involve cutting, piling, and burning of trees less than nine inches dbh using hand methods. This will reduce ladder fuels and surface fuels, while promoting tree growth rates.

Oak Stand Improvement: Oak stand improvement treatments on about 20 acres involves removal of conifers encroaching on black and white oaks. Trees less than nine inches dbh will be cut, piled, and burned using hand methods or non-commercial means. This will reduce ladder fuels and surface fuels, while promoting oak growth rates and mast production.

Treatment in Riparian Reserves: There are about 335 acres (43 acres of proposed commercial thinning; and 292 acres of proposed non-commercial thinning) of stream associated riparian reserves within proposed treatment units. Thinning in riparian reserves is planned where necessary to meet desired conditions as described in the Klamath National Forest Land and Resource Management Plan. Trees of commercial value that are thinned will be left on site, except where large woody debris and/or coarse woody debris is above reference condition in which case they may be removed to produce wood fiber as a by-product.

Responsible Official

Patricia A. Grantham, Klamath National Forest Supervisor.

Nature of Decision To Be Made

The responsible official will decide whether to adopt and implement the proposed action, an alternative to the proposed action, or take no action to change existing conditions within the project area.

Scoping Process

This notice of intent initiates the scoping process, which guides the development of the environmental impact statement. To assist the Forest Service in identifying and considering issues and concerns on the proposed action, comments should be as specific as possible. We are particularly interested in hearing about any potential issues, which are defined as points of discussion, dispute, or debate about the effects of the proposed action. Your participation will help the interdisciplinary team develop effective, issue-driven alternatives and mitigations to the proposed action as needed.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: February 10, 2014.
Patricia A. Grantham,
Forest Supervisor.

[FR Doc. 2014-03428 Filed 2-14-14; 8:45 am]

BILLING CODE 3410-11-P